DEPARTMENT OF COMMERCE

International Trade Administration

[C-489-830]

Steel Concrete Reinforcing Bar From the Republic of Turkey: Postponement of Preliminary Determination in Countervailing Duty Investigation

AGENCY: Enforcement and Compliance, International Trade Administration, Department of Commerce.

DATES: Effective December 1, 2016.

FOR FURTHER INFORMATION CONTACT: Kaitlin Wojnar, AD/CVD Operations, Office VII, Enforcement and Compliance, International Trade Administration, U.S. Department of Commerce, 1401 Constitution Avenue NW., Washington, DC 20230; telephone: (202) 482-3857.

SUPPLEMENTARY INFORMATION:

Background

On October 11, 2016, the Department of Commerce (the Department) initiated the countervailing duty (CVD) investigation of steel concrete reinforcing bar from the Republic of Turkey.¹ Currently, the preliminary determination is due no later than December 15, 2016.

¹ See Steel Concrete Reinforcing Bar from the Republic of Turkey: Initiation of Countervailing Duty Investigation, 81 FR 71705 (October 18, 2016).

Postponement of the Preliminary Determination

Section 703(b)(1) of the Tariff Act of 1930, as amended (the Act), requires the Department to issue the preliminary determination in a CVD investigation within 65 days of the date on which the Department initiated the investigation. However, if the Department concludes that the parties concerned are cooperating and that the case is extraordinarily complicated, such that additional time is necessary to make the preliminary determination, section 703(c)(1)(B) of the Act allows the Department to postpone making the preliminary determination until no later than 130 days after the date on which the administering authority initiated the investigation.

The Department determines that the parties concerned are currently cooperating and that the investigation is extraordinarily complicated, such that it will need more time to make the preliminary determination. Specifically, in addition to evaluating the financial contribution and specificity of numerous national and regional programs, the Department will analyze the provision of several inputs for less than adequate remuneration and will consider a more-than-adequate-remuneration program for the first time in a proceeding involving the Republic of Turkey.

For the reasons stated above, the Department, in accordance with section 703(c)(l)(B) of the Act, is postponing the deadline for the preliminary determination to no later than 130 days after the day on which the Department initiated this investigation. Therefore, the new deadline for the preliminary determination is February 21, 2017.² Pursuant to section 705(a)(1) of the Act and 19 CFR 351.210(b)(1), the deadline for the final determination will continue to be 75 days after the date of the preliminary determination, unless postponed.

² Department practice dictates that, when a deadline falls on a weekend or a federal holiday, the appropriate deadline is the next business day. See Notice of Clarification: Application of the “Next Business Day” Rule for Administrative Determination Deadlines Pursuant to the Tariff Act of 1930, as Amended, 70 FR 24533, 24533 (May 10, 2005). Because February 18, 2017, falls on a Saturday and February 20, 2017, is a federal holiday, the appropriate deadline for the preliminary determination in this investigation is February 21, 2017.

This notice is issued and published in accordance with section 703(c)(2) of the Act and 19 CFR 351.205(f)(1).

Dated: November 28, 2016.
Ronald K. Lorentzen,
Acting Assistant Secretary for Enforcement and Compliance.

[FR Doc. 2016-28855 Filed 11-30-16; 8:45 am]

BILLING CODE 3510-DS-P